NATIONAL FOUNDATION ON THE ARTS AND THE HUMANITIES

National Endowment for the Arts; President's Committee on the Arts and the Humanities: Meeting #54

Pursuant to section 10 (a)(2) of the Federal Advisory Committee Act (Public Law 92-463), as amended, notice is hereby given that a meeting of the President's Committee on the Arts and the Humanities will be held on Thursday, November 6, 2003 from 9 a.m. to approximately 12 p.m. The meeting will be held in the Potomac Room at the St. Regis Hotel, 923 16th Street, NW., Washington, DC.

The Committee meeting will begin at 9 a.m. with a welcome, introduction of new staff members, announcements, and remarks by Adair Margo, Committee Chairman. The meeting will include updates on Youth Orchestra of the Americas and Save America's Treasures. The remainder of the meeting will focus on PCAH support for After School Youth Arts and Humanities programs, including a discussion on the Coming Up Taller assessment developed by the National Assembly of State Arts Agencies. The meeting will adjourn following Closing Remarks.

The President's Committee on the Arts and the Humanities was created by Executive Order in 1982 to advise the President, the two Endowments, and the Institute of Museum and Library Services on measures to encourage private sector support for the nation's cultural institutions and to promote public understanding of the arts and the humanities.

Any interested persons may attend as observers, on a space available basis, but seating is limited. Therefore, for this meeting, individuals wishing to attend must contact Georgiana Paul of the President's Committee seven days in advance at (202) 682-5409 or write to the Committee at 1100 Pennsylvania Avenue, NW., Suite 526, Washington, DC 20506. Further information with reference to this meeting can also be obtained from Ms. Paul.

If you need special accommodations due to a disability, please contact Ms. Hoffman through the Office of AccessAbility, National Endowment for the Arts, 1100 Pennsylvania Avenue, NW., Washington, DC 20506, 202/682-5532, TDY-TDD 202/682-5496, at least seven (7) days prior to the meeting.

Dated: October 14, 2003.
Kathy Plowitz-Worden,
Panel Coordinator, Panel Operations, National Endowment for the Arts.

[FR Doc. 03-26354 Filed 10-16-03; 8:45 am]

BILLING CODE 7537-01-P